DEPARTMENT OF ENERGY

Federal Energy Regulatory Commission

[Project No. 2503-147—South Carolina and North Carolina]

Duke Energy Carolinas, LLC, Keowee-Toxaway Hydroelectric Project; Notice of Revised Restricted Service List for a Programmatic Agreement

Rule 2010 of the Federal Energy Regulatory Commission's (Commission) Rules of Practice and Procedure, 18 CFR 385.2010, provides that, to eliminate unnecessary expense or improve administrative efficiency, the Secretary may establish a restricted service list for a particular phase or issue in a proceeding. The restricted service list should contain the names of persons on the service list who, in the judgment of the decisional authority establishing the list, are active participants with respect to the phase or issue in the proceeding for which the list is established.

The Commission staff is consulting with the South Carolina State Historic Preservation Officer (SHPO), the North Carolina SHPO, and the Advisory Council on Historic Preservation (Advisory Council) pursuant to the Advisory Council's regulations, 36 CFR part 800, implementing section 106 of the National Historic Preservation Act, as amended, (16 U.S.C. section 470f), to prepare and execute a programmatic agreement for managing properties included in, or eligible for inclusion in, the National Register of Historic Places that could be affected by issuance of a new license for the Keowee-Toxaway Project No. 2503.

On August 11, 2011, Commission staff established a restricted service list for the Keowee-Toxaway Project. On April 24, 2013, the United Keetoowah Band of Cherokee Indians in Oklahoma requested to be added to the restricted service list. The restricted service list is supplemented to include:

“Lisa Baker, Acting THPO, or Representative, United Keetoowah Band of Cherokee Indians in Oklahoma, P.O. Box 746, Tahlequah, OK 74465.”

On April 26, 2013, the South Carolina Department of Archives & History requested a revision to the restricted service list. The restricted service list is revised as follows:

Replace “Dr. Jodi Barnes” and “Rebekah Dobrasko” with “Elizabeth M. Johnson, Director, Historical Services, D-SHPO, South Carolina Department of Archives & History, 8301 Parklane Road, Columbia, SC 29223.”

Dated: April 29, 2013.
Kimberly D. Bose,
Secretary.

[FR Doc. 2013-10618 Filed 5-3-13; 8:45 am]

BILLING CODE 6717-01-P